DEPARTMENT OF COMMERCE

International Trade Administration

A-201-805

Circular Welded Non-Alloy Steel Pipe and Tube from Mexico: Rescission of Antidumping Duty Administrative Review

AGENCY: Import Administration, International Trade Administration, Department of Commerce

SUMMARY: In response to requests from Hylsa S.A. de C.V. “Hylsa”) and Mueller Commercial de México, S. de R.L. de C.V. (“Mueller”), respondents, and Southland Pipe Nipples Co., Inc. (“Southland”), an interested party, the Department of Commerce (“the Department”) initiated an administrative review of the antidumping duty order on circular welded non-alloy steel pipe and tube (“pipe and tube”) from Mexico. See Initiation of Antidumping and Countervailing Duty Administrative Reviews, 72 FR 73315 (December 27, 2007). This administrative review covers the period November 1, 2006, through October 31, 2007. We are now rescinding this review due to requests by all parties named above to rescind the review.

EFFECTIVE DATE: February 12, 2008.

FOR FURTHER INFORMATION CONTACT: John Drury or Angelica Mendoza, AD/CVD Operations, Office 7, Import Administration, International Trade Administration, U.S. Department of Commerce, 14th Street and Constitution Avenue, NW., Room 7866, Washington, DC 20230; telephone: (202) 482-0195 or (202) 482-3019, respectively.

SUPPLEMENTARY INFORMATION:

Background

The Department published an antidumping duty order on pipe and tube from Mexico on November 2, 1992. See Notice of Antidumping Duty Orders: Certain Circular Welded Non-Alloy Steel Pipe from Brazil, the Republic of Korea (“Korea”), Mexico, and Venezuela and Amendment to Final Determination of Sales at Less Than Fair Value: Certain Welded Non-Alloy Steel Pipe from Korea, 57 FR 49453 (November 2, 1992). The Department published a notice of “Opportunity to Request an Administrative Review” of the antidumping duty order for the period November 1, 2006, through October 31, 2007, on November 1, 2007. See Antidumping or Countervailing Duty Order, Finding, or Suspended Investigation; Opportunity To Request Administrative Review, 72 FR 61859 (November 1, 2007). Hylsa requested that the Department conduct an administrative review of sales of merchandise covered by the order by Hylsa on November 30, 2007. Additionally, both Mueller and Southland requested that the Department conduct an administrative review of sales of merchandise covered by the order by Mueller on November 30, 2007. In response to the requests, the Department published the initiation of the antidumping duty administrative review on pipe and tube from Mexico on December 27, 2007. See Initiation of Antidumping and Countervailing Duty Administrative Reviews, 72 FR 73315 (December 27, 2007).

Hylsa withdrew its request for review with respect to Hylsa on January 11, 2008. Both Mueller and Southland withdrew their requests for review with respect to Mueller on January 15, 2008.

Rescission of the Administrative Review

Pursuant to 19 CFR § 351.213(d)(1), the Secretary will rescind an administrative review under this section, in whole or in part, if a party that requested a review withdraws the request within 90 days of the date of publication of notice of initiation of the requested review. The Secretary may extend this time limit if the Secretary decides that it is reasonable to do so. See 19 CFR § 351.213(d)(1). Hylsa, Mueller and Southland withdrew their respective requests for review within 90 days of the date of publication of the notice of initiation. No other party requested an administrative review for this period. Therefore, consistent with 19 CFR § 351.213(d)(1), the Department hereby rescinds the administrative review of the antidumping duty order on pipe and tube from Mexico for the period November 1, 2006, through October 31, 2007. The Department intends to issue assessment instructions to Customs and Border Protection 15 days after the date of publication of this rescission of administrative review.

This notice serves as a reminder to parties subject to administrative protective order (“APO”) of their responsibility concerning the disposition of proprietary information disclosed under APO in accordance with 19 CFR § 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 CFR § 351.213(d)(4).

Dated: February 4, 2008.
Stephen J. Claeys,
Deputy Assistant Secretary for Import Administration.

[FR Doc. E8-2565 Filed 2-11-08; 8:45 am]

BILLING CODE 3510-DR-S